DEPARTMENT OF LABOR

Employment and Training Administration

[TA-W-65,109]

Fortis Plastics, LLC, Fort Smith, AR; Notice of Termination of Investigation

Pursuant to Section 221 of the Trade Act of 1974, as amended, an investigation was initiated on February 4, 2009 in response to a worker petition filed by the Rapid Response Coordinator for the State of Arkansas on behalf of workers of Fortis Plastics, LLC, Fort Smith, Arkansas.

The petitioner has requested that the petition be withdrawn. Consequently, the investigation has been terminated.

Signed at Washington, DC, this 13th day of March, 2009.
Richard Church,
Certifying Officer, Division of Trade Adjustment Assistance.

[FR Doc. E9-6294 Filed 3-23-09; 8:45 am]

BILLING CODE 4510-FN-P